DEPARTMENT OF ENERGY

Federal Energy Regulatory Commission

[Docket No. CP00-450-000]

Reliant Energy Gas Transmission Company; Notice of Application

September 11, 2000.

Take notice that on August 30, 2000, Reliant Energy Gas Transmission Company (REGT), 1111 Louisiana Street, Houston, TX 77210, filed an application pursuant to Section 7(b) of the Natural Gas Act (NGA), as amended, and Part 157 of the Federal Energy Regulatory Commission's (the Commission) Regulations (18 CFR 157.7 and 157.18), for any and all abandonment authority required for REGT to effect the sale and transfer to Reliant Energy Field Services Inc. (REFS) of its Savannah compressor station located in Pittsburg County, Oklahoma. In addition, REGT seeks a determination that once conveyed, this facility will be a gathering facility exempt from the Commission's jurisdiction pursuant to NGA Section 1(b), all as more fully set forth in the Application on file with the Commission and open to pubic inspection. The application may be viewed on the web at www.ferc.fed.us/online/rims.htm (Call (202) 208-2222 for assistance).

Any questions regarding the application may be directed to: Lawrence O. Thomas, Director-Financial Analysis, Reliant Energy Gas Transmission Company, PO Box 21734, Shreveport, LA 71151, (318) 429-2804.

Any person desiring to be heard or to make any protest with reference to said application should on or before October 2, 2000, file with the Federal Energy Regulatory Commission, 888 First Street, NE., Washington, DC 20426, a motion to intervene or a protest in accordance with the requirements of the Commission's Rules of Practice and Procedure (18 CFR 385.211 and 385.214) and the Regulations under the NGA (18 CFR 157.10). All protests filed with the Commission will be considered by it in determining the appropriate action to be taken, but will not serve to make the protestants parties to the proceedings. Any person wishing to become a party to a proceeding or to participate as a party in any hearing therein must file a motion to intervene in accordance with the Commission's Rules.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court. The Commission will consider all comments and concerns equally, whether filed by commenters or those requesting intervener status.

Take further notice, that pursuant to the authority contained in and subject to the jurisdiction conferred upon the Federal Energy Regulatory Commission by Sections 7 and 15 of the Natural Gas Act and the Commission's Rules of Practice and Procedure, a hearing will be held without further notice before the Commission or its designee on this Application if no motion to intervene is filed within the time required herein or if the Commission on its own review of the matter finds that a grant of the certificate for the proposed abandonment is required by the public convenience and necessity. If the Commission believes that a formal hearing is required, further notice of such hearing will be duly given.

Under the procedure herein provided for, unless otherwise advised, it will be unnecessary for REGT to appear or be represented at the hearing.

Linwood A. Watson, Jr.,
Acting Secretary.

[FR Doc. 00-23712 Filed 9-14-00; 8:45 am]

BILLING CODE 6717-01-M